Title 3—

The President

Proclamation 7310 of May 19, 2000

World Trade Week, 2000

By the President of the United States of America

A Proclamation

The prosperity the United States enjoys today is due, in no small part, to our strong trading relationships with other nations. The World Trade Organization, the North American Free Trade Agreement, and 270 other agreements have helped us to open new markets for U.S. products and services, create thousands of new jobs, and keep our economy growing without inflation. The African Growth and Opportunity Act and the United States-Caribbean Basin Trade Partnership Act that I signed into law this week will build on this progress by lowering trade barriers and strengthening our economic partnership with nations in sub-Saharan Africa and the Caribbean basin.

The theme of World Trade Week this year, “Working the Web of Trade,” reflects the particular importance of the Internet as a new and rapidly accelerating factor in world trade. The Internet holds enormous commercial potential and brings extraordinary opportunities directly into homes and workplaces across the United States and around the world. Linking businesses and consumers more quickly and directly than ever before, the worldwide web is a powerful tool, available 24 hours a day, 7 days a week, that allows even the smallest company to conduct business on a global scale.

My Administration has worked hard to encourage America's businesses and workers to embrace this worldwide web of opportunity and its potential to enhance productivity at home and access to markets abroad. By investing in research and development, improving the quality of science and mathematics education in our schools, teaching workers new skills to fill jobs in the technology sector, and keeping e-commerce fair, safe, and competitive, we can stimulate our export industries, sustain this remarkable period of growth and prosperity, and ensure America's continued leadership in the global economy.

This week, when the Congress takes up legislation to grant Permanent Normal Trade Relations status to the People's Republic of China, it will have an opportunity to further the progress we have made in building strong trading relationships. PNTR for China will increase America's competitiveness in the global marketplace, reduce tariffs, and give American workers and farmers unprecedented access to China's more than one billion consumers.

World trade, whether conducted in person, on paper, or on line, remains a cornerstone of American economic growth. But even more important, trade plays a vital role in improving opportunity and prosperity around the globe. Free and fair international trade is one of the most effective tools we have to bring people together, raise living standards in developed and developing nations alike, promote human dignity, and improve long-term prospects for democracy, stability, and world peace.

NOW, THEREFORE, I, WILLIAM J. CLINTON, President of the United States of America, by virtue of the authority vested in me by the Constitution and laws of the United States, do hereby proclaim May 21 through May 27, 2000, as World Trade Week. I invite the people of the United States to observe this week with events, trade shows, and educational programs that celebrate the benefits of international trade to our economy and our world.

IN WITNESS WHEREOF, I have hereunto set my hand this nineteenth day of May, in the year of our Lord two thousand, and of the Independence of the United States of America the two hundred and twenty-fourth.

wj

[FR Doc. 00-13162

Filed 5-23-00; 8:45 am]

Billing code 3195-01-P